DEPARTMENT OF ENERGY

Federal Energy Regulatory Commission

[Project No. 405-106]

Exelon Generation Company, LLC; Notice of Application Accepted for Filing, Soliciting Motions To Intervene and Protests, Ready for Environmental Analysis, Soliciting Comments, Recommendations, Preliminary Terms and Conditions, and Preliminary Fishway Prescriptions, and Intent To Prepare an Environmental Impact Statement

Take notice that the following hydroelectric application has been filed with the Commission and is available for public inspection.

a. Type of Application: New Major License

b. Project No.: 405-106

c. Date Filed: August 31, 2012

d. Applicant: Exelon Generation Company, LLC

e. Name of Project: Conowingo Hydroelectric Project

f. Location: On the Susquehanna River, in Harford and Cecil Counties, Maryland and Lancaster and York Counties, Pennsylvania. The project does not occupy any federal lands.

g. Filed Pursuant to: Federal Power Act, 16 U.S.C. 791(a)-825(r)

h. Applicant Contact: Colleen Hicks, Manager, Regulatory and Licensing, Hydro, Exelon Power, 300 Exelon Way, Kennett Square, PA 19348, at (610) 765-6791 or email at Colleen.Hicks@exeloncorp.com and Kathleen Barròn, Vice President, Federal Regulatory Affairs and Wholesale Market Policy, Exelon Corporation, 101 Constitution Avenue, Washington, DC 20001, at (202) 347-7500 or email at Kathleen.Barron2@exeloncorp.com.

i. FERC Contact: Emily Carter, (202) 502-6512 or emily.carter@ferc.gov.

j. Deadline for filing motions to intervene and protests, comments, recommendations, preliminary terms and conditions, and preliminary fishway prescriptions is September 30, 2013; reply comments are due November 14, 2013.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. The existing Conowingo Project consists of a concrete gravity dam with a maximum height of approximately 94 feet. The dam consists of a 1,225-foot-long, non-overflow gravity section, a 2,385-foot-long ogee-shaped spillway section, a 950-foot-long intake-powerhouse section, and a 100-foot-long non-overflow gravity section. The spillway consists of a 2,250-foot-long section with a crest elevation of 86.0 feet, and a 135-foot-long section with a crest elevation of 98.5 feet.¹ The spillway is fitted with 50 Stoney-type crest gates and two regulating gates. Each Stoney crest gate is 22.5 feet high by 38 feet wide and has a discharge capacity of 16,000 cubic feet per second (cfs) at a reservoir elevation of 109.2 feet. The two regulating gates are 10 feet high by 38 feet wide and have a discharge capacity of 4,000 cfs per gate at a reservoir elevation of 109.2 feet.

¹ All elevations are referenced to National Geodetic Vertical Datum (NGVD) 1929.

Conowingo dam impounds the Susquehanna River, forming Conowingo reservoir (Conowingo pond) that extends 14 miles upstream from the dam. Total storage in the 9,000-acre reservoir is approximately 310,000 acre-feet, and total useable storage is about 71,000 acre-feet at the normal full pool elevation of 109.2 feet. The elevation of the normal river surface below the dam is approximately 20.5 feet. The impoundment provides approximately 89 feet of gross head for power generation purposes.

The power plant is integral with the dam and is composed of 13 turbine-generator units, draft tubes, and transformer bays. The first seven turbine-generating units (1-7) are completely enclosed within the powerhouse, and the last four units (8-11) are located outside. The hydraulic equipment for units 1-7 consists of Francis-type single runner hydraulic turbines. The hydraulic equipment for units 8-11 consists of four mixed-flow Kaplan-type hydraulic turbines. Units 1, 3, 4, 6 and 7 have 47.7-megawatt (MW) generators; Units 2 and 5 have 36.0-MW generators; and Units 8-11 have 65.6-MW generators. Additionally, two house turbines provide station service and “black-start” capability with each unit having a 1.6-MW generator. Water flowing through the turbines is discharged via the draft tubes into the tailrace immediately downstream of the dam.

Electricity generated at the project is transmitted by two individual 220-kilovolt (kV) transmission lines extending from the project substation to East Nottingham.

The Conowingo Project has an authorized nameplate generating capacity of 573 MW and generates an average of 1,836,125 megawatt hours annually. Exelon is not proposing any new or upgraded facilities or structural changes to the project at this time. Exelon is proposing to modify the project boundary in the vicinity of upper Broad Creek and downstream of the Conowingo dam. This modification will remove lands from upper Broad Creek, as well as downstream of Rowland Island. Originally included in the construction plans of the project, Exelon states these lands are no longer necessary for project operation. In addition, Exelon has engaged interested stakeholders to participate in the development of a comprehensive settlement agreement based on collaborative negotiation of specific terms and conditions for the new Conowingo license.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. Procedural Schedule: The application will be processed according to the following Hydro Licensing Schedule. Revisions to the schedule may be made as appropriate.

Milestone | Target date
Filing of recommendations, preliminary terms and conditions, and preliminary fishway prescriptions | September 30, 2013.
Reply comments due | November 14, 2013.
Commission issues draft EIS | March 29, 2014.
Comments on draft EIS | May 28, 2014.
Modified terms and conditions | July 27, 2014.
Commission issues Final EIS | October 25, 2014.

p. Final amendments to the application must be filed with the Commission no later than 30 days from the issuance date of the notice of ready for environmental analysis.

q. A license applicant must file no later than 60 days following the date of issuance of this notice of acceptance and ready for environmental analysis provided for in 5.22: (1) A copy of the water quality certification; (2) a copy of the request for certification, including proof of the date on which the certifying agency received the request; or (3) evidence of waiver of water quality certification.

Dated: April 29, 2013.
Kimberly D Bose,
Secretary.

[FR Doc. 2013-10619 Filed 5-3-13; 8:45 am]

BILLING CODE 6717-01-P